ENVIRONMENTAL PROTECTION AGENCY

[FRL-6538-8]

Proposed CERCLA Administrative Cashout Settlement; Montgomery KONE, Inc., Strother Field Industrial Park Superfund Site, Cowley County, KS, Docket No. CERCLA-7-2000-0007

AGENCY: Environmental Protection Agency (EPA).

ACTION: Notice; request for public comment.

SUMMARY: In accordance with section 122(h) of the Comprehensive Environmental Response, Compensation, and Liability Act, as amended (“CERCLA”), 42 U.S.C. 9622(h), notice is hereby given of a proposed administrative settlement for recovery of past response costs concerning the Strother Field Industrial Park Superfund Site, Cowley County, Kansas, with the following settling party: Montgomery KONE, Inc. The settlement requires the settling party to pay $40,000.00 to the Hazardous Substance Superfund. The settlement agreement includes a covenant not to sue the settling party pursuant to section 107(a) of CERCLA, 42 U.S.C. 9607(a). Montgomery KONE, Inc., formerly known as Montgomery Elevator, Inc., owned a facility in the southern portion of the Site until 1985. Montgomery KONE, Inc. currently owns property at the northern portion of the Site where it currently operates its business at Strother Field. It is estimated that the total costs expended in connection with the Site by both EPA and the responsible parties will exceed $7 million. The estimated costs incurred by the responsible parties include the responsible parties' estimates of the respective amounts that have been or will be expended on site cleanup activities. The cleanup of the Site will continue with EPA's continuing enforcement activities against the PRPs that have not been cashed out. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at Strother Field Airport/Industrial Park, 4th & Tupper, Winfield, KS 67156 and Office of Regional Hearing Clerk, EPA, 901 North 5th Street, Kansas City, KS 66101.

DATES: Comments must be submitted on or before March 20, 2000.

ADDRESSES: The proposed settlement providing additional background information relating to the settlement is available for public inspection at Office of Regional Hearing Clerk, Environmental Protection Agency, 901 N. 5th Street, Kansas City, KS 66101. A copy of the proposed settlement may be obtained from Kathy Robinson, Regional Hearing Clerk, EPA, 901 N. 5th Street, Kansas City, KS 66101, telephone 913-551-7567. Comments should reference the Strother Field Industrial Park Superfund Site, Cowley County, Kansas, Docket No. CERCLA 7-2000-0007, and should be addressed to Regional Hearing Clerk, EPA, 901 N. 5th Street, Kansas City, KS 66101.

FOR FURTHER INFORMATION CONTACT: James D. Stevens, Assistant Regional Counsel, EPA, 901 N. 5th Street, Kansas City, KS 66101, telephone: 913-551-7322.

Dated: February 9, 2000.
Dennis Grams, P.E.,
Regional Administrator, Region 7.

[FR Doc. 00-3850 Filed 2-17-00; 8:45 am]

BILLING CODE 6560-50-P